FEDERAL COMMUNICATIONS COMMISSION

[OMB 3060-0686, 3060-0944 and 3060-1163; FR ID 211755]

Information Collections Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.”

DATES: Written comments and recommendations for the proposed information collection should be submitted on or before Thursday, May 2, 202.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Cathy Williams, FCC, via email to PRA@fcc.gov and to Cathy.Williams@fcc.gov. Include in the comments the OMB control number as shown in the SUPPLEMENTARY INFORMATION below.

FOR FURTHER INFORMATION CONTACT: For additional information or copies of the information collection, contact Cathy Williams at (202) 418-2918. To view a copy of this information collection request (ICR) submitted to OMB: (1) go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the Title of this ICR and then click on the ICR Reference Number. A copy of the FCC submission to OMB will be displayed.

SUPPLEMENTARY INFORMATION: The Commission may not conduct or sponsor a collection of information unless it displays a currently valid Office of Management and Budget (OMB) control number. No person shall be subject to any penalty for failing to comply with a collection of information subject to the PRA that does not display a valid OMB control number.

As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control No.: 3060-0686.

Title: International Section 214 Authorizations, 47 CFR 63.10-63.25, 1.40001, 1.40003.

Form No.: ITC-214—International Section 214 Authorization Application (revising form); ITC-ASG/TC—International Section 214 Authorization Assignment or Transfer of Control of Authorization (revising form); ITC-FCN—International Section 214 Authorization Foreign Carrier Notification (revising form); ITC-STA—International Section 214 Authorization Special Temporary Authority (revising form); ITC-AMD—International Section 214 Authorization Amendment (new form); ITC-MOD—International Section 214 Authorization Modification (new form); ITC-RPT—International Section 214 Authorization Dominant Carrier Quarterly Reports (new form); ITC-WAV—International Section 214 Authorization Waiver Request (new form); ITC-DSC—International Section 214 Authorization Discontinuance of Service (new form); RTL-NEW—List of Routes on which the Carrier has Direct Termination Arrangements (new form); RTL-MOD—Modification to Route List (Addition to or Removal from an Existing List of Routes) (new form); and RTL-WAV—International Route List Waiver Request (new form).

Type of Review: Revision of a currently approved collection.

Respondents: Business or other for-profit entities.

Number of Respondents: 192 respondents; 614 responses.

Estimated Time per Response: 1 hour to 120 hours.

Frequency of Response: On occasion, annual and quarterly reporting requirements, third party disclosure requirement, and recordkeeping requirement.

Obligation To Respond: Required to obtain or retain benefits. The statutory authority for Part 1 of this information collection is contained in 47 U.S.C. 151, 154(i), 154(j), 155, 225, 303(r), 309, and 325(e). The statutory authority for Part 63 of this information collection is contained in sections 1, 4(j), 10, 11, 201-205, 214, 218, 403, and 651 of the Communications Act of 1934, as amended.

Total Annual Burden: 2,393 hours.

Annual Cost Burden: $874,045.

Needs and Uses: The Federal Communications Commission (Commission) is requesting that the Office of Management and Budget (OMB) approve a revision of OMB Control No. 3060-0686 to incorporate changes from three Commission orders: the Mandatory Electronic Filing Order, FCC 21-87; the 2020 Executive Branch Review Order, FCC 20-133; and the 2021 Executive Branch Standard Questions Order, FCC 21-104. The Commission also seeks approval for online electronic forms that are currently under development as part of the Commission's modernization of its online, web-based electronic filing system—the International Communications Filing System (ICFS). To improve the Commission's collection of information related to international section 214 authorizations (international section 214s) and to incorporate the new requirements, the Commission revised current application forms and added new forms.

First, the Mandatory Electronic Filing Order requires that any remaining applications and reports administered by the former International Bureau (whose functions are now divided among the Office of International Affairs and the Space Bureau) that are filed on paper or through an alternative filing process should filed electronically once forms become available in ICFS. The Order sought to reduce costs and administrative burdens, and therefore to result in greater efficiencies, facilitate faster and efficient communications, and overall improve transparency to the public.

Second, the 2020 Executive Branch Review Order and the 2021 Executive Branch Standard Questions Order create new requirements associated with certain applications, including international section 214 applications with reportable foreign ownership, that will be reviewed by the relevant Executive Branch agencies for national security, law enforcement, foreign policy, and trade policy issues as well as other changes.

In the 2020 Executive Branch Review Order, the Commission adopted rules and procedures to facilitate a more streamlined and transparent review process for coordinating applications with the Executive Branch agencies. The Commission also established firm time frames for the Executive Branch agencies to complete their review consistent with Executive Order 13913, which established the Committee for the Assessment of Foreign Participation in the United States Telecommunications Services Sector (the Committee). Specifically, under the new rules, the Committee has 120 days for initial review, plus an additional 90 days for secondary assessment if the Committee determines that the risk to national security or law enforcement interests cannot be mitigated with standard mitigation measures. The Commission also adopted and codified five categories of information for which applicants must provide detailed and comprehensive information to the Committee.

In the 2021 Executive Branch Standards Questions Order, the Commission adopted the Standard Questions—a baseline set of national security and law enforcement questions covering the five categories of information described above. The responses to the Standard Questions will replace the information that applicants currently provide to the Committee on an individualized basis. The Standard Questions consist of six separate questionnaires (based on subject matter) and a supplement for the provision of personally identifiable information (PII). Two of these questionnaires and the PII supplement are applicable to international section 214s. International section 214 applicants with reportable foreign ownership will be required to answer the questions, and file their responses, as well as a copy of the FCC application, directly with the Committee.

Finally, the Commission is in the process of modernizing ICFS (ICFS Modernization). This includes developing new and revised international section 214 application forms to improve the Commission's information collection and comply with the new requirements. Until the electronic forms are approved, international section 214 applicants are required to provide the information required by the 2020 Executive Branch Review Order and the 2021 Executive Branch Standard Questions Order by filing current applications and filing separate documents into ICFS to comply with the rules. We estimate that the projected completion date for the modernized ICFS, including all international section 214 application forms, will be July 2024.

OMB Control Number: 3060-0944.

Title: Cable Landing License Act, 47 CFR 1.767, 1.768, 1.40001, 1.40003, Executive Order 10530.

Form Number: SCL-LIC—Submarine Cable Landing License Application (revising form); SCL-STA—Submarine Cable Landing License Special Temporary Authority (revising form); SCL-FCN—Submarine Cable Landing License Foreign Carrier Affiliation (revising form); SCL-ASG/TC—Submarine Cable Landing License Assignment or Transfer of Control of License (new form); SCL-LPN—Submarine Cable Landing License Landing Point Notification (new form); SCL-MOD—Submarine Cable Landing License Modification (new form); SCL-RPT—Submarine Cable Landing License Quarterly Report (new form); SCL-RWL—Submarine Cable Landing License Renewal (new form); SCL-AMD—Submarine Cable Landing License Amendment (new form); and SCL-WAV—Submarine Cable Landing License Waiver Request (new form).

Type of Review: Revision of a currently approved collection.

Respondents: Business and other for-profit entities.

Number of Respondents and Responses: 41 respondents; 118 responses.

Estimated Time per Response: 1 to 120 hours.

Frequency of Response: On occasion reporting requirement, Quarterly reporting requirement, Recordkeeping requirement and third-party disclosure requirement.

Obligation To Respond: Required to obtain or retain benefits. The statutory authority for this information collection is contained in the Submarine Cable Landing License Act of 1921, 47 U.S.C. 34-39, Executive Order 10530, Executive Order 13913, section 5(a), and the Communications Act of 1934, as amended, 47 U.S.C. 151, 152, 154(i)-(j), 155, 303(r), 309, and 403.

Total Annual Burden: 960 hours.

Total Annual Cost: $340,255.

Needs and Uses: The Federal Communications Commission (Commission) is requesting that the Office of Management and Budget (OMB) approve revisions to OMB Control No. 3060-0944 to incorporate the new requirements adopted by the Commission in the 2020 Executive Branch Review Order, FCC 20-133, and the 2021 Executive Branch Standard Questions Order, FCC 21-104. The Commission also seeks approval for online electronic forms that are currently under development as part of the Commission's modernization of its International Communications Filing System (ICFS). To improve the Commission's collection of information related to submarine cable applications and to incorporate the new requirements, the Commission revised current submarine cable application forms and added new forms.

First, the 2020 Executive Branch Review Order and the 2021 Executive Branch Standard Questions Order create new requirements associated with certain applications, including submarine cable applications, with reportable foreign ownership that will be reviewed by the relevant Executive Branch agencies for national security, law enforcement, foreign policy and trade policy issues as well as other changes.

In the 2020 Executive Branch Review Order, the Commission adopted rules and procedures to facilitate a more streamlined and transparent review process for coordinating applications with the Executive Branch agencies. The Commission also established firm time frames for the Executive Branch agencies to complete their review consistent with Executive Order 13913, which established the Committee for the Assessment of Foreign Participation in the United States Telecommunications Services Sector (the Committee). Specifically, under the new rules, the Committee has 120 days for initial review, plus an additional 90 days for secondary assessment if the Committee determines that the risk to national security or law enforcement interests cannot be mitigated with standard mitigation measures. The Commission also adopted and codified five categories of information for which applicants must provide detailed and comprehensive information to the Committee.

In the 2021 Executive Branch Standards Questions Order, the Commission adopted the Standard Questions—a baseline set of national security and law enforcement questions covering the five categories of information described above. The responses to the Standard Questions will replace the information that applicants currently provide to the Committee on an individualized basis. The Standard Questions consist of six separate questionnaires (based on subject matter) and a supplement for the provision of personally identifiable information (PII). Two of these questionnaires and the PII supplement are applicable to submarine cables. Submarine cable applicants with reportable foreign ownership will be required to answer the questions and file their responses as well as a copy of the FCC application, directly with the Committee.

Second, the Commission is in the process of modernizing ICFS (ICFS Modernization), including developing new and revised submarine cable application forms to improve the Commission's information collection and comply with the new requirements. Until the electronic forms are approved, submarine cable applicants are required to provide the information required by the 2020 Executive Branch Review Order and the 2021 Executive Branch Standard Questions Order by filing current applications and filing separate documents into ICFS to comply with the rules. We estimate that the projected completion date for the modernized ICFS, including all cable landing license application forms, will be July 2024.

OMB Control Number: 3060-1163.

Title: 47 CFR 1.5001-1.5004 Regulations Applicable to Broadcast, Common Carrier, and Aeronautical Radio Licensees Under Section 310(b) of the Communications Act of 1934, as amended; 47 §§ 1.40001, 1.40003.

Form Number: ISP-PDR—Section 310(b) Petition for Declaratory Ruling (new form); ISP-AMD—Section 310(b) Petition for Declaratory Ruling Amendment (new form); and ISP-WAV Section 310(b) Petition for Declaratory Ruling Waiver Request (new form).

Type of Review: Revision of a currently approved collection.

Respondents: Business or other for-profit entities.

Number of Respondents and Responses: 20 respondents; 52 responses.

Estimated Time per Response: 1 hour to 120 hours.

Frequency of Response: On-occasion reporting requirement.

Obligation To Respond: Required to obtain or retain benefits. The statutory authority for Part 1 of this information collection is contained in 47 U.S.C. 151, 154(i), 154(j), 155, 225, 303(r), 309, and 325(e).

Total Annual Burden: 1,219 hours.

Total Annual Cost: $407,000.

Needs and Uses: The Federal Communications Commission (Commission) is requesting that the Office of Management and Budget (OMB) approve a revision of OMB Control No. 3060-1163 to incorporate new requirements adopted by the Commission in the 2020 Executive Branch Review Order, FCC 20-133, and the 2021 Executive Branch Standard Questions Order, FCC 21-104. The Commission also seeks approval for online electronic forms that are currently under development as part of the Commission's modernization of its online, web-based electronic filing system—the International Communications Filing System (ICFS). The Commission has developed new ICFS forms to improve the Commission's collection of information related to foreign ownership petitions for declaratory ruling under section 310(b) of the Communications Act of 1934, as amended (the Act) (section 310(b) petitions or petitions) related to common carrier wireless, aeronautical en route, and aeronautical fixed radio station licenses (collectively, wireless common carrier licenses) and to incorporate the new requirements.

First, the 2020 Executive Branch Review Order and the 2021 Executive Branch Standard Questions Order create new requirements associated with certain applications, including section 310(b) petitions that will be reviewed by the relevant Executive Branch agencies for national security, law enforcement, foreign policy, and trade policy issues as well as other changes.

In the 2020 Executive Branch Review Order, the Commission adopted rules and procedures to facilitate a more streamlined and transparent review process for coordinating applications with the Executive Branch agencies. The Commission also established firm time frames for the Executive Branch agencies to complete their review consistent with Executive Order 13913, which established the Committee for the Assessment of Foreign Participation in the United States Telecommunications Services Sector (the Committee). Specifically, under the new rules, the Committee has 120 days for initial review, plus an additional 90 days for secondary assessment if the Committee determines that the risk to national security or law enforcement interests cannot be mitigated with standard mitigation measures. The Commission also adopted and codified five categories of information for which applicants must provide detailed and comprehensive information to the Committee.

Second, in the 2021 Executive Branch Standards Questions Order, the Commission adopted the Standard Questions—a baseline set of national security and law enforcement questions covering the five categories of information described above. The responses to the Standard Questions will replace the information that petitioners currently provide to the Committee on an individualized basis. The Standard Questions consist of six separate questionnaires (based on subject matter) and a supplement for the provision of personally identifiable information (PII). Petitioners will be required to submit their responses to the Standard Questions and a copy of the section 310(b) petition, directly with the Committee. Broadcast petitioners will be required to answer Standard Questions specific to broadcast licensees and common carrier wireless petitioners will be required to answer Standard Questions specific to common carrier licenses as well as a general PII supplement applicable to all respondents to the Standard Questions.

Finally, the Commission is in the process of modernizing ICFS (ICFS Modernization). Common carrier wireless section 310(b) petitions are filed through ICFS while broadcast section 310(b) petitions are filed through the Media Bureau's Licensing and Management System (LMS) when submitted with a broadcast construction permit, assignment, or transfer of control application. The ICFS Modernization includes developing forms for the submission of petitions related to common carrier wireless licenses to improve the Commission's information collection and comply with the new requirements. Until the new ICFS forms are approved, common carrier wireless section 310(b) petitioners will be required to provide the information required by the 2020 Executive Branch Review Order and the 2021 Executive Branch Standard Questions Order by filing current petitions and filing separate documents into ICFS to comply with the rules. We estimate that the projected completion date for the modernized ICFS, including all forms related to common carrier wireless section 310(b) petitions, will be July 2024.

Federal Communications Commission.
Marlene Dortch,
Secretary, Office of the Secretary.

[FR Doc. 2024-06958 Filed 4-1-24; 8:45 am]

BILLING CODE 6712-01-P